INTERNATIONAL TRADE COMMISSION

[Investigation No. TA-201-77]

Fresh, Chilled, or Frozen Blueberries; Institution of Investigation, Scheduling of Public Hearings, and Determination That the Investigation Is Extraordinarily Complicated, Amendment

AGENCY: United States International Trade Commission.

ACTION: Notice; amendment.

SUMMARY: The Commission published a notice in the Federal Register of October 9, 2020, concerning the institution and scheduling of investigation No. TA-201-77 pursuant to section 202 of the Trade Act of 1974 (“the Act”) to determine whether fresh, chilled, or frozen blueberries are being imported into the United States in such increased quantities as to be a substantial cause of serious injury, or the threat thereof, to the domestic industry producing an article like or directly competitive with the imported articles. 85 FR 64162. This amended notice corrects a Harmonized Tariff Schedule of the United States (“HTSUS”) statistical reporting number provided in the original notice, and corrects the citation to the statutory authority for the notice.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Amendment.—In the section of the original notice entitled “Background,” in FR Doc. 2020-22423, on page 64163, in the first column, line 20, replace HTSUS statistical reporting number “0811.90.2010” with “0811.90.2040”. Accordingly, the amended description of the imported articles should read as follows. “The imported articles covered by this investigation are fresh, chilled, or frozen blueberries (“blueberries”). For Customs purposes, the blueberries covered by the investigation are provided for under Harmonized Tariff Schedule of the United States (“HTSUS”) statistical reporting numbers 0810.40.0024; 0810.40.0026; 0810.40.0029; 0811.90.2024; 0811.90.2030; and 0811.90.2040. These HTSUS numbers are provided for convenience, and the written description of the scope is dispositive.”

In addition, in FR Doc. 2020-22423, on page 64164, in the first column, line 58, replace “section 203(b)(3)” with “section 202(b)(3).” Accordingly, the last paragraph of the notice should read as follows:

Authority: This investigation is being conducted under authority of Section 202 of the Act; this notice is published pursuant to section 202(b)(3) of the Act.”

By order of the Commission.
Issued: October 13, 2020.
Lisa Barton,
Secretary to the Commission.

[FR Doc. 2020-23017 Filed 10-16-20; 8:45 am]

BILLING CODE 7020-02-P